DEPARTMENT OF COMMERCE

National Oceanic and Atmospheric Administration

Notice of Approval for the Jobos Bay, Puerto Rico National Estuarine Research Reserve Management Plan Revision

AGENCY: Stewardship Division, Office for Coastal Management, National Ocean Service, National Oceanic and Atmospheric Administration, U.S. Department of Commerce.

ACTION: Notice.

SUMMARY: Under applicable Federal regulations, notice is hereby given that the Stewardship Division, Office for Coastal Management, National Ocean Service, National Oceanic and Atmospheric Administration, U.S. Department of Commerce approves the revised Management Plan for Jobos Bay, Puerto Rico National Estuarine Research Reserve Management Plan. In accordance with applicable Federal regulations, the Jobos Bay Reserve revised its Management Plan, which will replace the plan previously approved in 2000.

The revised Management Plan outlines the administrative structure; the research/monitoring, stewardship, education, and training programs of the Reserve; and the plans for future land acquisition and facility development to support Reserve operations.

The Jobos Bay Reserve takes an integrated approach to management, linking research, education, coastal training, and stewardship functions. The Reserve has outlined how it will manage administration and its core program providing detailed actions that will enable it to accomplish specific goals and objectives. Since the last management plan, the reserve has: Developed core programs; expanded monitoring programs within Jobos Bay and its watershed; expanded its dorm, and remodeled the historic train depot and visitor center; conducted training workshops; implemented K-12 education programs; and built new and innovative partnerships with local, Commonwealth, and U.S. organizations and universities.

On August 28, 2017, NOAA issued a notice of a thirty day public comment period for the Jobos Bay Reserve revised plan (82 FR 40752). Responses to the written and oral comments received, and an explanation of how comments were incorporated into the final revised plan, are available in Appendix 8 of the revised plan.

Since the last management plan was approved in 2000, the Jobos Bay Reserve has acquired an additional 8233.9 acres of upland forest, salt flats and offshore cays. While the intent to include these into the boundaries of the management plan is acknowledged in this revised management plan, the actual inclusion of the properties will not be accomplished with the approval of the revised plan. Rather, a formal boundary expansion will be pursued as a separate action after this plan has been approved. All of the proposed additions are owned by the Puerto Rico Department of Natural and Environmental Resources (DNER) and will be managed for long-term protection and conservation value. These parcels have high ecological value and will enhance the Reserve's ability to provide increased opportunities for research, education, and stewardship. The revised Management Plan will serve as the guiding document for the expanded 11,033.9 acre Jobos Bay Reserve. View the Jobos Bay, Puerto Rico Reserve Management Plan at http://drna.pr.gov/jbnerr/pm-jbnerr/jobos-bay-national-estuarine-research-reserve-management-plan-2017-2022/.

The impacts of the revised management plan have not changed and the initial Environmental Impact Statement (EIS) prepared at the time of designation is still valid. NOAA has made the determination that the revision of the management plan will not have a significant effect on the human environment and therefore qualifies for a categorical exclusion under NOAA Administrative Order 216-6. An environmental assessment will not be prepared.

FOR FURTHER INFORMATION CONTACT: Nina Garfield at (240) 533-0817 or Kim Texiera at (301) 563-1172 of NOAA's National Ocean Service, Stewardship Division, Office for Coastal Management, 1305 East-West Highway, N/ORM5, 10th floor, Silver Spring, MD 20910.

Dated: May 7, 2018.
Keeling Kuipers,
Acting Deputy Director, Office for Coastal Management, National Ocean Service, National Oceanic and Atmospheric Administration.

[FR Doc. 2018-10159 Filed 5-11-18; 8:45 am]

BILLING CODE 3510-08-P